NUCLEAR REGULATORY COMMISSION

10 CFR Part 140

[Docket No. PRM-140-1]

RIN 3150-AB01

Criteria for an Extraordinary Nuclear Occurrence; Withdrawal of Proposed Rule and Denial of Petition for Rulemaking Submitted by the Public Citizen Litigation Group and Critical Mass Energy Project; Correction

AGENCY: Nuclear Regulatory Commission.

ACTION: Withdrawal of a proposed rule and denial of petition for rulemaking; correction.

SUMMARY: This document corrects a notice of withdrawal of a proposed rule and denial of a petition for rulemaking, relating to criteria for an extraordinary nuclear occurrence, appearing in the Federal Register on October 17, 2000 (65 FR 61283). This action is necessary to correct a reference to the NRC's rulemaking website appearing in the ADDRESSES paragraph.

FOR FURTHER INFORMATION CONTACT: David L. Meyer, Chief Rules and Directives Branch Division of Administrative Services, Office of Administration, U.S. Nuclear Regulatory Commission, Washington, DC 20555-0001, telephone 301-415-7162 (e-mail: dlm@nrc.gov).

Accordingly, in FR Doc. 00-26642, published at 65 FR 61283 on October 17, 2000, make the following correction:

1. On page 61283, column one, the last sentence in the ADDRESSES paragraph, the rulemaking website is corrected to read as follows: http://ruleforum.llnl.gov.

Dated at Rockville, Maryland, this 19th day of October, 2000.
For the Nuclear Regulatory Commission.
David L. Meyer,
Chief, Rules and Directives Branch, Division of Administrative Services, Office of Administration.

[FR Doc. 00-27254 Filed 10-19-00; 2:39 pm]

BILLING CODE 7590-01-P